DEPARTMENT OF DEFENSE

Defense Acquisition Regulations System

48 CFR Parts 204 and 252

Defense Federal Acquisition Regulation Supplement; Technical Amendments

AGENCY: Defense Acquisition Regulations System, Department of Defense (DoD).

ACTION: Final rule.

SUMMARY: DoD is making technical amendments to the Defense Federal Acquisition Regulation Supplement (DFARS) to update an Internet address and a cross-reference.

DATES: Effective Date: May 13, 2008.

FOR FURTHER INFORMATION CONTACT: Ms. Michele Peterson, Defense Acquisition Regulations System, OUSD(AT&L)DPAP(DARS), IMD 3D139, 3062 Defense Pentagon, Washington, DC 20301-3062. Telephone 703-602-0311; facsimile 703-602-7887.

SUPPLEMENTARY INFORMATION: This final rule amends DFARS text as follows:

○ 204.7005. Updates the Internet address for DoD order code assignments.

○ 252.211-7003. Updates a cross-reference.

List of Subjects in 48 CFR Parts 204 and 252

Government procurement.

Michele P. Peterson,
Editor, Defense Acquisition Regulations System.

Therefore, 48 CFR parts 204 and 252 are amended as follows:

1. The authority citation for 48 CFR parts 204 and 252 continues to read as follows:

Authority: 41 U.S.C. 421 and 48 CFR Chapter 1.

PART 204—ADMINISTRATIVE MATTERS

2. Section 204.7005 is amended by revising paragraph (d) to read as follows:

204.7005 Assignment of order codes.

* * * * *

(d) Order code assignments can be found at http://www.acq.osd.mil/dpap/dars/order_code_assignments.html.

PART 252—SOLICITATION PROVISIONS AND CONTRACT CLAUSES

252.211-7003 [AMENDED]

3. Section 252.211-7003 is amended in Alternate I, in the introductory text, by removing “211.274-4(c)” and adding in its place “211.274-5(a)(4)”.

[FR Doc. E8-10667 Filed 5-12-08; 8:45 am]

BILLING CODE 5001-08-P